DEPARTMENT OF STATE

[Public Notice: 10323]

Notice of Determinations; Culturally Significant Objects Imported for Exhibition Determinations: “Dead Sea Scrolls: The Exhibition” Exhibition

SUMMARY: Notice is hereby given of the following determinations: I hereby determine that certain objects to be included in the exhibition “Dead Sea Scrolls: The Exhibition,” imported from abroad for temporary exhibition within the United States, are of cultural significance. The objects are imported pursuant to a loan agreement with the foreign owner or custodian. I also determine that the exhibition or display of the exhibit objects at the Denver Museum of Nature and Science, Denver, Colorado, from on or about March 15, 2018, until on or about September 2, 2018, and at possible additional exhibitions or venues yet to be determined, is in the national interest.

The action of the United States in this matter, and the immunity based on the application of the provisions of law involved, does not imply any view of the United States concerning the ownership of the exhibit objects.

FOR FURTHER INFORMATION CONTACT: Elliot Chiu in the Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257-1 of December 11, 2015). I have ordered that Public Notice of these determinations be published in the Federal Register.

Janet Freer,
Director, Office of Directives Management, Department of State.

[FR Doc. 2018-03839 Filed 2-22-18; 8:45 am]

BILLING CODE 4710-05-P